DEPARTMENT OF COMMERCE

International Trade Administration

[A-570-827]

Notice of Extension of Time Limit for the Final Results of Antidumping Duty Administrative Review: Certain Cased Pencils from the People's Republic of China

AGENCY: Import Administration, International Trade Administration, Department of Commerce.

EFFECTIVE DATE: April 27, 2006.

FOR FURTHER INFORMATION CONTACT: Paul Stolz or William Quigley, AD/CVD Operations, Office 8, Import Administration, International Trade Administration, U.S. Department of Commerce, 14th Street and Constitution Avenue, NW, Washington, DC 20230; telephone: (202) 482-4474 and (202) 482-4551, respectively.

SUPPLEMENTARY INFORMATION:

Background

On December 28, 2005, the Department of Commerce (the Department) published in the Federal Register the preliminary results of the administrative review of the antidumping duty order on certain cased pencils from the People's Republic of China. See Certain Cased Pencils from the People's Republic of China; Preliminary Results of Antidumping Duty Administrative Review and Intent to Rescind in Part, 70 FR 76755 (December 28, 2005). Pursuant to section 751(a)(3)(A) of the Tariff Act of 1930, as amended (the Act), the final results are currently due on April 27, 2006.

Extension of Time Limit for Final Results

Section 751(a)(3)(A) of the Act requires the Department to issue the final results in an administrative review within 120 days of the publication date of the preliminary results. However, if it is not practicable to complete the review within this time period, the Department may extend the time limit for the final results to 180 days. The Department has determined that, due to the complexity of the issues raised by the parties regarding wood loss and the surrogate value for pencil cores, it is not practicable to complete this review within the time limits mandated by section 751(a)(3)(A) of the Act and 19 CFR 351.213(h)(1). Therefore, the Department is extending the time limit for the completion of these final results by 60 days. Accordingly, the final results of this review will now be due no later than June 26, 2006.

This notice is published in accordance with section 751(a)(3)(A) of the Act and 19 CFR 351.213(h)(2).

Dated: April 21, 2006.
Stephen J. Claeys,
Deputy Assistant Secretary for Import Administration.

[FR Doc. E6-6367 Filed 4-26-06; 8:45 am]

BILLING CODE 3510-DS-S